LIBRARY OF CONGRESS

Copyright Royalty Board

[Docket No. 2008-3 CRB DD (2007-2011 SRF)]

Distribution of Digital Audio Recording Royalty Funds

AGENCY: Copyright Royalty Board (CRB), Library of Congress.

ACTION: Final distribution determination.

SUMMARY: The Copyright Royalty Judges announce their final determination of the distribution of 2007 DART royalties in the Featured Artists Subfund of the Sound Recordings Fund.

DATES: Applicable date: June 12, 2019.

ADDRESSES: The final distribution order is also published in eCRB at https://app.crb.gov/.

Docket: For access to the docket to read background documents, go to eCRB, the Copyright Royalty Board's electronic filing and case management system, at https://app.crb.gov/ and search for docket number 2008-3 CRB DD (2007-2011 SRF).

FOR FURTHER INFORMATION CONTACT: Anita Blaine, CRB Program Specialist, by phone at (202) 707-7658 or by email at crb@loc.gov.

SUPPLEMENTARY INFORMATION: On December 26, 2018, the Copyright Royalty Judges (Judges) commenced a proceeding to determine the distribution of the digital audio recording technology (DART) royalties in the 2007, 2008, 2009, 2010, and 2011 Sound Recordings Funds, which, for purposes of this proceeding, consist of the Featured Recording Artists Subfund and the Copyright Owners Subfund. 83 FR 66312, 66313.¹ The Judges received Petitions to Participate (PTP) from David Powell, Eugene “Lambchops” Curry, Herman Kelly, and Alliance of Artists and Recording Companies (AARC). Notice of Participants, Commencement of Voluntary Negotiation Period, and Case Scheduling Order (Attachment A) (Feb. 27, 2019). On February 27, 2019, the Judges dismissed Mr. Powell and Mr. Curry from the proceeding. Order Granting AARC Motion to Reject David Powell's Defective Filings and Dismissing David Powell and Order Granting AARC Motion to Reject Eugene Curry's Defective Filing and Dismissing Eugene Curry.² Therefore, the only two participants remaining in the proceeding are Mr. Kelly and AARC. According to Copyright Royalty Board records, while AARC filed a claim for DART royalties in 2007 under the Featured Recording Artists Subfund, Mr. Kelly filed no claim for DART royalties for 2007. As a result, AARC is the only remaining claimant with a valid claim for 2007 DART royalties in the Featured Recording Artists Subfund of the Sound Recordings Fund.

¹ Pursuant to section 1006(b)(1) of the Copyright Act, small portions of each subfund have already been distributed to representatives for nonfeatured musicians and nonfeatured vocalists and are not part of this proceeding.

² Mr. Curry's motion for leave to file a late petition to participate is pending before the Judges.

Section 801(b)(3)(A) of the Copyright Act states that the Judges may authorize distribution of royalty fees deposited pursuant to Section 1005 of the Copyright Act if they find that the distribution is not subject to controversy. 17 U.S.C. 801(b)(3)(A). In the current proceeding, AARC is the only remaining party with a claim to 2007 DART royalties in the Featured Recording Artists Subfund of the Sound Recordings Fund. Therefore, 2007 DART royalties in the Featured Recording Artists Subfund are not in controversy.

The Judges therefore order that the remaining royalties in the 2007 DART Featured Recording Artists Subfund of the Sound Recordings Fund be distributed to AARC.³

³ The Judges previously ordered distribution of 98% of 2007 DART funds from the Sound Recordings Fund to AARC and the claimants that it represents. Distribution Order, Docket No. 2008-3 CRB DD 2007 (Oct. 14, 2008) and Order Granting In Part AARC's Supplemental Requests for Partial Distribution of 2007, 2008, and 2009 DART Sound Recordings Fund Royalties, Docket Nos. 2010-5 CRB DD 2009, 2009-3 CRB DD 2008, and 2008-3 CRB DD 2007 (March 8, 2012).

The Judges will forward this determination to the Register of Copyrights and the Librarian of Congress for review and approval. The Librarian shall publish this Determination within 60 days of the date of this order. This Determination will become final upon publication in the Federal Register.

April 9, 2019.

Jesse M. Feder,

Chief United States Copyright Royalty Judge.

David R. Strickler

United States Copyright Royalty Judge.

Richard C. Strasser

United States Copyright Royalty Judge.

The Register of Copyrights closed her review of this Determination on May 13, 2019, with no finding of legal error.

Dated: May 31, 2019.
Jesse M. Feder,
Chief United States Copyright Royalty Judge.
Approved by:
Carla D. Hayden,
Librarian of Congress.

[FR Doc. 2019-12419 Filed 6-11-19; 8:45 am]

BILLING CODE 1410-72-P